DEPARTMENT OF ENERGY

Federal Energy Regulatory Commission

[Docket No. IC08-73-000; FERC Form 73]

Commission Information Collection Activities, Proposed Collection; Comment Request; Extension

January 4, 2008.

AGENCY: Federal Energy Regulatory Commission.

ACTION: Notice.

SUMMARY: In compliance with the requirements of section 3506(c)(2)(a) of the Paperwork Reduction Act of 1995 (Pub. L. No. 104-13), the Federal Energy Regulatory Commission (Commission) is soliciting public comment on the specific aspects of the information collection described below.

DATES: Comments on the collection of information are due by March 10, 2008.

ADDRESSES: Copies of sample filings can be obtained from the Commission's Web site: (http://elibrary.ferc.gov/idmws/search/fercgensearch.asp) by entering, in the Docket Number block, the prefix “DO” together with the fiscal year of the filing, followed by an asterisk (for example: DO07*), or from the Federal Energy Regulatory Commission, Attn: Michael Miller, Office of the Executive Director, ED-34, 888 First Street, NE., Washington, DC 20426. Comments may be filed either in paper format or electronically. Those parties filing electronically do not need to make a paper filing. For paper filings, the original and 14 copies of such comments should be submitted to the Office of the Secretary, Federal Energy Regulatory Commission, 888 First Street, NE., Washington, DC 20426 and refer to Docket No. IC08-73-000.

Documents filed electronically via the Internet must be prepared in WordPerfect, MS Word, Portable Document Format or ASCII format. To file the document, access the Commission's Web site at http://www.ferc.gov and choose the Documents and Filings tab, click on E-filing, then follow the instructions given. First time users will need to establish a user name and password. The Commission will send an automatic acknowledgement to the sender's e-mail address upon receipt of comments.

All comments may be viewed, printed or downloaded remotely via the Internet through FERC's homepage using the eLibrary link. For user assistance, contact ferconlinesupport@ferc.gov or 202-502-6652 (toll free at 1-866-208-3676). E-mail the Public Reference Room at public.referenceroom@ferc.gov.

FOR FURTHER INFORMATION CONTACT: Michael Miller may be reached by telephone at (202) 502-8415, by fax at (202) 273-0873, and by e-mail at michael.miller@ferc.gov.

SUPPLEMENTARY INFORMATION: The information collected under the requirements of FERC Form 73 “Oil Pipelines Service Life Data” (OMB No. 1902-0019) is used by the Commission to establish oil pipeline property depreciation rates based on the physical properties of a pipeline's equipment. Congress gave the Commission jurisdiction over oil pipeline rates, charges and valuations in Pub. L. 103-272, sec. 60502 (1994).¹ The Commission's regulations governing FERC Form No. 73 can be found in 18 CFR § 357.3. The filing instructions are available online at http://www.ferc.gov/docs-filing/hard-fil.asp, under the Oil tab.

¹ To Revise, Codify and Enact Without Substantive Change Certain General and Permanent Laws, Related to Transportation, as Subtitles II, III, and V-X of Title 49, U.S.C., “Transportation”, and to Make Other Technical Improvements in the Code, 49 U.S.C. 60502 (July 5, 1994). This Act repealed the Department of Energy Act sections 306 and 402 under which the Interstate Commerce Commission transferred to, and vested, in the Commission all functions and authority over rates or charges for the transportation of oil by pipeline including the establishment of valuations of any such pipeline, Pub. L. 95-91 (August 4, 1977).

Depreciation rates are a factor in a pipeline's transportation cost of service. As such, companies are required to submit Form No. 73 when requesting Commission approval of: (1) The establishment of depreciation rates for new pipeline equipment or (2) revision of previously approved depreciation rates, when the depreciation is based on the physical properties of the pipeline company's equipment. The Commission may also request an oil pipeline to submit a Form No. 73 during a rate investigation.

On May 27, 2005, in Order No. 656, the Commission amended the Form No. 73 instructions to allow for filing on a diskette in a spreadsheet file format, eliminated the filing requirement for utility codes, which were no longer used by the Commission, and updated the filing instructions to delete references to outdated filing formats.²

² Revision of FERC Form No. 73, Oil Pipeline Data Filing Instructions, Order No. 656, 70 FR 34343 (June 14, 2005), FERC Statutes and Regulations, Regulations Preambles 2001-2005 ¶ 31,183(2005).

Action: The Commission is requesting approval and three-year extension of the current expiration date. There are no changes to the information that is collected on Form 73. This is a mandatory information collection requirement.

Burden Statement: Public reporting burden for this collection is estimated as follows:

Number of respondents annually | Number of responses per respondent | Average burden hours per response | Total annual burden hours
(1) | (2) | (3) | (1) × (2) × (3)
2 | 1 | 40 | 80

The estimated total cost to respondents is $4,861 (80 hours divided by 2,080 hours per employee ³ per year times $126,384 ⁴ per year average salary per employee equals $4,861 (rounded)). The estimated cost of filing Form 73 per respondent is $2,431.

³ Number of hours an employee works per year.

⁴ Average annual salary per employee.

The reporting burden includes the total time, effort, or financial resources expended to generate, maintain, retain, disclose, or provide the information including: (1) Reviewing instructions; (2) developing, acquiring, installing, and utilizing technology and systems for the purposes of collecting, validating, verifying, processing, maintaining, disclosing and providing information; (3) adjusting the existing ways to comply with any previously applicable instructions and requirements; (4) training personnel to respond to a collection of information; (5) searching data sources; (6) completing and reviewing the collection of information; and (7) transmitting, or otherwise disclosing the information.

The estimate of cost for respondents is based upon salaries for professional and clerical support, as well as direct and indirect overhead costs. Direct costs include all costs directly attributable to providing this information, such as administrative costs and the cost for information technology. Indirect or overhead costs are costs incurred by an organization in support of its mission. These costs apply to activities which benefit the whole organization rather than any one particular function or activity.

Comments are invited on: (1) Whether the proposed collection of information is necessary for the proper performance of the functions of the Commission, including whether the information will have practical utility; (2) the accuracy of the agency's estimate of the burden of the proposed collection of information, including the validity of the methodology and assumptions used; (3) ways to enhance the quality, utility and clarity of the information to be collected; and (4) ways to minimize the burden of the collection of information on those who are to respond, including the use of appropriate automated, electronic, mechanical, or other technological collection techniques or other forms of information technology e.g. permitting electronic submission of responses.

Kimberly D. Bose,
Secretary.

[FR Doc. E8-402 Filed 1-11-08; 8:45 am]

BILLING CODE 6717-01-P